DEPARTMENT OF DEFENSE

Office of the Secretary

Industry Forum on the DoD Utilities Privatization Program

AGENCY: Department of Defense.

SUMMARY: The Office of the Deputy Under Secretary of Defense for Installations and Environment will lead an Industry Forum on the DoD Utilities Privatization Program. The forum will occur during the Defense Energy Support Center's (DESC) 2004 Worldwide Energy Conference from 12 to 5 on Wednesday, September 29th, in the Grand Ballroom of the Hyatt Regency Crystal City, 2799 Jefferson Davis Highway, Arlington, Virginia.

A panel of DoD Representatives will provide an update and address issues submitted in advance by the industry. Please submit your issues and/or proposed topics to james.reed@bearingpoint.com by August 30, 2004, with a copy to Richard.Marrs@osd.mil.

As practical, industry representatives will also be invited to present topics or issues to the group. If you would like to present an issue, please provide an outline of your presentation to james.reed@bearingpoint.com by August 27, 2004 with a copy to Richard.Marrs@osd.mil. Please plan to limit the presentation to 10 minutes.

Your assistance in providing issues prior to the forum will help ensure an efficient use of the time available. There will also be opportunities to raise issues during the forum, but time constraints may require a follow up response. A summary of all issues addressed will be provided following the forum. If you would like to be placed on the mailing list for the summary, please notify james.reed@bearingpoint.com.

Additional details on the industry forum will be provided. For more information on the DESC 2004 Worldwide Energy Conference, please visit http://www.desc.dla.mil/.

Dated: August 19, 2004.
L.M. Bynum,
Alternate OSD Federal Register Liaison Officer, Department of Defense.

[FR Doc. 04-19387 Filed 8-24-04; 8:45 am]

BILLING CODE 5001-06-M